DEPARTMENT OF THE INTERIOR

National Park Service

[NPS-WASO-NRNHL-DTS#-30265; PPWOCRADI0, PCU00RP14.R50000]

National Register of Historic Places; Notification of Pending Nominations and Related Actions

AGENCY: National Park Service, Interior.

ACTION: Notice.

SUMMARY: The National Park Service is soliciting electronic comments on the significance of properties nominated before May 2, 2020, for listing or related actions in the National Register of Historic Places.

DATES: Comments should be submitted electronically by June 4, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before May 2, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

IOWA

Polk County

Lustron House #02437, 1440 63rd St., Windsor Heights, SG100005272

MASSACHUSETTS

Middlesex County

First Parish Church of Groton and Parish House, 1 Powderhouse Rd., Groton, SG100005275

Suffolk County

Theodore Parker Unitarian Universalist Church, 1859 Centre St., West Roxbury, SG100005274

NORTH DAKOTA

Wells County

Harvey Power Plant, SE corner of US 52 Bus. and Judy Blvd., Harvey, SG100005273

WISCONSIN

Sauk County

Freedom Mine, S5910 Cty. Rd. PF, Freedom, SG100005266

Additional documentation has been received for the following resources:

VIRGINIA

New Kent County

Cedar Lane, 9040 New Kent Hwy., New Kent (Courthouse) vicinity, AD100000985

WISCONSIN

Lafayette County

St. Augustine Church (Additional Documentation), 26291 High St., New Diggings, AD72000057

Authority: Section 60.13 of 36 CFR part 60.

Dated: May 4, 2020.
Julie H. Ernstein,
Supervisory Archeologist, National Register of Historic Places/National Historic Landmarks Program.

[FR Doc. 2020-10903 Filed 5-19-20; 8:45 am]

BILLING CODE 4312-52-P